DEPARTMENT OF THE INTERIOR

Bureau of Land Management

[BLM_CO_FRN_MO4500178328]

Call for Nominations for Colorado Rocky Mountain Resource Advisory Council

AGENCY: Bureau of Land Management, Interior.

ACTION: Notice of call for nominations.

SUMMARY: The purpose of this notice is to request public nominations for the Bureau of Land Management (BLM) Colorado's Rocky Mountain Resource Advisory Council (RAC) to fill one existing vacancy. The RAC provides advice and recommendations to the BLM on land use planning and management of the National System of Public Lands within its geographic area.

DATES: All nominations must be received no later than May 16, 2024.

ADDRESSES: Nominations and completed applications should be sent to Levi Spellman, BLM Rocky Mountain District Office, 3028 East Main Street, Cañon City, CO 81212; phone: (719) 269-8553; email: lspellman@blm.gov.

FOR FURTHER INFORMATION CONTACT: Kirby-Lynn Shedlowski, BLM Colorado Deputy Communications Director, Denver Federal Center, Building 40 Lakewood, CO 80215; telephone: (303) 239-3671; email: kshedlowski@blm.gov. Individuals in the United States who are deaf, deafblind, hard of hearing, or have a speech disability may dial 711 (TTY, TDD, or TeleBraille) to access telecommunications relay services for contacting Kirby-Lynn Shedlowski. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by the applicable regulations, RAC membership must be balanced and representative of the various interests concerned with the management of the public lands. The BLM regulations governing the operation of RACs are found at 43 CFR subpart 1784.

The RAC is seeking nominations for individuals who hold State, county, or local elected office.

Individuals may nominate themselves or others. Nominees must be residents of the State of Colorado. The BLM will evaluate nominees based on their education, training, experience, and knowledge of the geographic area of the RAC. Nominees should demonstrate a commitment to collaborative resource decision-making.

The following must accompany all nominations:

—A completed RAC application, which can either be obtained through your local BLM office or online at: https://www.blm.gov/sites/default/files/docs/2022-05/BLM-Form-1120-19_RAC-Application.pdf

—Letters of reference from represented interests or organizations; and

—Any other information that addresses the nominee's qualifications.

Simultaneous with this notice, BLM Colorado will issue a press release providing additional information for submitting nominations.

(Authority: 43 CFR 1784.4-1)

Douglas J. Vilsack,
BLM Colorado State Director.

[FR Doc. 2024-08039 Filed 4-15-24; 8:45 am]

BILLING CODE 4331-16-P